DEPARTMENT OF HOUSING AND URBAN DEVELOPMENT

[Docket No. FR-4737-N-01]

Notice of Proposed Information Collection for Public Comment: HOME Investment Partnership Program Study: 2001-2003

AGENCY: Office of Policy Development and Research, HUD.

ACTION: Notice.

SUMMARY: The proposed information collection requirement concerning a project to obtain information on the HOME Investment Partnership Program Study 2001-2003 will be submitted to the Office of Management and Budget (OMB) for review as required by the Paperwork Reduction Act. The Department is soliciting public comments on the subject proposal.

DATES: Comments Due Date: April 16, 2002.

ADDRESSES: Interested persons are invited to submit comments regarding this proposal. Comments should refer to the proposal by name and/or OMB Control Number and should be sent to: Report Liaison Officer, Department of Housing and Urban Development, 451 7th Street, Room 8228, Washington, DC 20410.

FOR FURTHER INFORMATION CONTACT: Judson James, Office of Policy Development and Research, Department of Housing and Urban Development, 451 7th Street, SW, Room 8140, Washington, DC 20410, telephone number (202) 708-1336 extension 5707 (this is not a toll-free number). Copies of the proposed forms and other available documents may be obtained from Mr. James.

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary to proper performance of the functions of the agency, including whether the information will have practical utility; (2) Evaluate the accuracy of the agency's estimate of the burden of the proposed collection of information; (3) Enhance the quality, utility, and clarity of the information to be collected; and (4) Minimize the burden of the collection of information on those who are to respond; including through use of appropriate automated collection techniques or other forms of information technology, e.g., permitting electronic submission of responses.

This Notice also lists the following information:

Title of Proposal: Mail survey of HOME Investment Partnership Program administrators regarding homebuyer activities funded by the HOME Program.

Description of the need for the information and proposed use: The information to be collected is part of a larger study, conducted by Abt Associates Inc., of homebuyer programs funded with HUD's HOME block grant program. Since HOME is the principal HUD-funded program for supporting homebuyer assistance and homebuyer development programs, it is imperative that HUD understands the type of homebuyer programs being developed using HOME. All participating jurisdictions (PJS) will receive a mail survey designed to gather information about the key characteristics of homebuyer programs. The topics to be covered include: listing the individual homebuyer programs funded; general information on each of these programs; targeting eligibility for the programs; underwriting requirements; use of sub-recipients and contractors; counseling provided; marketing and outreach; program partners; use of direct assistance or development programs; and types of loan-level data available (but not about the loans themselves). The data will be used to develop a comprehensive database on HOME-funded homebuyer programs. This research is intended to help HUD better understand the characteristics of homebuyer programs funded by the HOME program. This understanding is crucial in: (a) Determining how and to what extent the HOME program is being used for homebuyer activities; and (b) informing policy development decisions regarding the HOME program. At present there is no systematic information on how HOME funds are used to support homebuyer activities. This survey will fill this gap.

Members of affected public: State and local administrators of the HOME program.

Estimation of the total number of hours needed to prepare the information collection, including the number of respondents, frequency of response, and hours of response:

Types of respondents | Number of respondents | Number of responses | Hours per respondent | Total burden hours
State and Local Program Administrators | 595 | 1 | 1 | 595

Total Estimated Annual Burden Hours: 595 (one time).

Status of the proposed Information collection: Pending OMB approval.

Authority: The Paperwork Reduction Act of 1995, 44 U.S.C. Chapter 35, as amended.

Dated: February 7, 2002.
Lawrence L. Thompson,
General Deputy Assistant Secretary for Policy Development and Research.

[FR Doc. 02-3698 Filed 2-14-02; 8:45 am]

BILLING CODE 4210-62-M